FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 008493-027.

Title: Trans-Pacific American Flag Berth Operators Agreement.

Parties: American President Lines, Ltd., A.P. Moller Maersk A/S; and Maersk Line Limited.

Filing Party: Howard A. Levy, Esq.; 80 Wall Street, Suite 1117; New York, NY 10005-3602.

Synopsis: The amendment updates APL's corporate address.

Agreement No.: 010714-044.

Title: Trans-Atlantic American Flag Liner Operators Agreement.

Parties: A.P. Moller Maersk A/S; American President Lines, Ltd.; American Roll-On Roll-Off Carrier, LLC; Hapag-Lloyd USA, LLC.; and Maersk Line Limited.

Filing Party: Howard A. Levy, Esq.; 80 Wall Street, Suite 1117; New York, NY 10005.

Synopsis: The amendment updates APL's corporate address.

Agreement No.: 011223-046.

Title: Transpacific Stabilization Agreement.

Parties: American President Lines, Ltd. and APL Co. PTE Ltd.; (operating as a single carrier); A.P. Moller-Maersk A/S trading as Maersk Line; China Shipping Container Lines (Hong Kong) Company Limited and China Shipping Container Lines Company Limited (operating as a single carrier); CMA CGM, S.A.; COSCO Container Lines Company Ltd; Evergreen Line Joint Service Agreement; Hanjin Shipping Co., Ltd.; Hapag-Lloyd AG; Hyundai Merchant Marine Co., Ltd.; Kawasaki Kisen Kaisha Ltd.; Mediterranean Shipping Company; Nippon Yusen Kaisha; Orient Overseas Container Line Limited; Yangming Marine Transport Corp.; and Zim Integrated Shipping Services, Ltd.

Filing Party: David F. Smith, Esq.; Cozen O'Connor; 6271 I Street, NW.; Suite 1100; Washington, DC 20006.

Synopsis: The amendment updates the corporate addresses of APL and Hyundai.

Agreement No.: 011325-039.

Title: Westbound Transpacific Stabilization Agreement.

Parties: American President Lines, Ltd./APL Co. Pte Ltd.; COSCO Container Lines Company Limited; Evergreen Line Joint Service Agreement; Hanjin Shipping Co., Ltd.; Hapag-Lloyd AG; Hyundai Merchant Marine Co. Ltd.; Kawasaki Kisen Kaisha, Ltd.; Nippon Yusen Kaisha Line; Orient Overseas Container Line Limited; and Yangming Marine Transport Corp.

Filing Party: David F. Smith, Esq.; Cozen O'Connor; 627 I Street, NW.; Suite 1100; Washington, DC 20006.

Synopsis: This amendment would enhance the market research capability of WTSA, authorize additional discussions and information exchanges with the shipper community, and update the corporate addresses of American President Lines and Hyundai. The parties have requested expedited review.

Agreement No.: 011346-021.

Title: Israel Trade Conference Agreement.

Parties: A.P. Moller-Maersk A/S; American President Lines, Ltd.; Maersk Line Limited; and Zim Integrated Shipping Services, Ltd.

Filing Party: Howard A. Levy, Esq.; Chairman; Israel Trade Conference; 80 Wall Street, Suite 1117; New York, NY 10005-3602.

Synopsis: The amendment updates APL's corporate address.

Agreement No.: 012067-003.

Title: U.S. Supplemental Agreement to HLC Agreement.

Parties: BBC Chartering & Logistics GmbH & Co. KG; Beluga Chartering GmbH; Chipolbrok; Clipper Project Ltd.; Hyndai Merchant Marine Co., Ltd.; Industrial Maritime Carriers, L.L.C.; Nordana Line A/S; and Rickmers-Linie GmbH & Cie. KG.

Filing Party: Wade S. Hooker, Esq.; 211 Central Park W; New York, NY 10024.

Synopsis: The amendment would add MACS Maritime Carrier Shipping GmbH & Co. as a party to the HLC Agreement.

Agreement No.: 012107.

Title: HLAG/HMM Trans-Atlantic Space Charter Agreement.

Parties: Hapag-Lloyd AG and Hyundai Merchant Marine Co., Ltd.

Filing Parties: Wayne R. Rohde, Esq.; Cozen O'Connor; 1627 I Street, NW., Suite 1100; Washington, DC 20006.

Synopsis: The agreement authorizes Hapag-Lloyd to charter space to Hyundai in the trade between New York and Antwerp, Belgium.

Agreement No.: 012108.

Title: The World Liner Data Agreement.

Parties: A.P. Moller-Maersk A/S; CMA CGM S.A.; Hamburg-Sud; Hapag-Lloyd AG; United Arab Shipping Company S.A.G.

Filing Party: Wayne Rohde, Esq.; Cozen O'Connor; 627 I Street, NW.; Suite 1100; Washington, DC 20006.

Synopsis: The agreement authorizes the parties to gather, compile, aggregate, exchange and disseminate demand and supply forecasts, a volume database, and a price index relating to trades worldwide. The agreement will replace the Container Trade Statistics Agreement, which will be terminated.

By Order of the Federal Maritime Commission.
Dated: October 22, 2010.
Rachel E. Dickon,
Assistant Secretary.

[FR Doc. 2010-27203 Filed 10-26-10; 8:45 am]

BILLING CODE 6730-01-P